DEPARTMENT OF DEFENSE

Department of the Army

[Docket ID USA-2012-0016]

Privacy Act of 1974; System of Records

AGENCY: Department of the Army, DoD.

ACTION: Notice to delete a System of Records.

SUMMARY: The Department of the Army is deleting a system of records notice in its existing inventory of record systems subject to the Privacy Act of 1974 (5 U.S.C. 552a), as amended.

DATES: This proposed action will be effective on January 7, 2013 unless comments are received which result in a contrary determination. Comments will be accepted on or before January 4, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, (703) 428-6815.

SUPPLEMENTARY INFORMATION: The Department of the Army systems of records notices subject to the Privacy Act of 1974 (5 U.S.C. 552a), as amended, have been published in the Federal Register and are available from the contact in FOR FURTHER INFORMATION CONTACT. The proposed deletion is not within the purview of subsection (r) of the Privacy Act of 1974 (5 U.S.C. 552a), as amended, which requires the submission of a new or altered system report.

Dated: November 26, 2012.
Aaron Siegel,
Alternate OSD Federal Register Liaison Officer, Department of Defense.

Deletion:

A0215-2a CFSC

System name:

Army Club Membership Files (June 21, 2001, 66 FR 33239).

Reason:

The records were copies of military and government civilian applications for membership at Army clubs and are no longer collected by the Community and Family Support Centers or at clubs in the Army; therefore, the A0215-2a CFSC, Army Club Membership Files system of records notice can be deleted. Records have met the required National Archives and Records Administration retention and have been destroyed.

[FR Doc. 2012-29352 Filed 12-4-12; 8:45 am]

BILLING CODE 5001-06-P